FEDERAL COMMUNICATIONS COMMISSION

Notice of Public Information Collection(s) Being Submitted for Review and Approval to the Office of Management and Budget (OMB), Comments Requested

January 31, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before March 7, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov. To view a copy of this information collection request (ICR) submitted to OMB: (1) Go to the Web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214 or e-mail judith-b.herman@fcc.gov.

SUPPLEMENTARY INFORMATION:

OMB Control Number: 3060-0056.

Title: Part 68, Connection of Terminal Equipment to the Telephone Network.

Form Number: N/A.

Type of Review: Extension of a currently approved collection.

Respondents: Business or other for-profit.

Number of Respondents and Responses: 58,310 respondents; 68,077 responses.

Estimated Time per Response: .05 hours to 24 hours.

Frequency of Response: On occasion reporting requirement, third party disclosure requirement, and recordkeeping requirement.

Obligation to Respond: Required to obtain or retain benefits. Statutory authority for this information collection is contained in 47 U.S.C. sections 151-154, 201-205 and 303(r).

Total Annual Burden: 21,369 hours.

Total Annual Cost: $935,000.

Privacy Act Impact Assessment: N/A.

Nature and Extent of Confidentiality: The information respondents are requested to provide is not proprietary, trade secret or other confidential information. Applicants are advised not to submit proprietary signal processing or control circuitry not directly involved with Part 68 requirements.

Needs and Uses: The Commission will submit this expiring information collection to the Office of Management and Budget (OMB) during this comment period so that we may obtain the three year clearance from them. There is a 10,658 hour adjustment reduction and a $225,000 reduction in annual costs. There are no changes to the reporting, recordkeeping and/or third party disclosure requirements.

The purpose of 47 CFR part 68 is to protect the network from certain types of harm and prevent interference to subscribers. To demonstrate that terminal equipment comply with criteria for protecting the network; and to ensure that consumers, providers of telecommunications, the Commission and others are able to trace products to the party responsible for placing terminal equipment on the market, it is essential to require manufacturers or other responsible parties to provide the information required by part 68. In addition, incumbent local exchange carriers must provide the information in part 68 to warn their subscribers of impending disconnection of service when subscriber terminal equipment is causing telephone network harm.

Federal Communications Commission.
Bulah P. Wheeler,
Deputy Manager, Office of the Secretary, Office of Managing Director.

[FR Doc. 2011-2489 Filed 2-3-11; 8:45 am]

BILLING CODE 6712-01-P